DEPARTMENT OF LABOR

Employment and Training Administration

[TA-W-42,325]

U.S. Repeating Arms Co. New Haven, CT; Notice of Termination of Investigation

Pursuant to section 221 of the Trade Act of 1974, an investigation was initiated on November 1, 2002, in response to a petition filed by the International Association of Machinists and Aerospace Workers Union (IAMAW), District Lodge 26 on behalf of workers at U.S. Repeating Arms Company, New Haven, Connecticut.

The union official submitting the petition has requested that the petition be withdrawn. Consequently, further investigation in this case would serve no purpose and the investigation has been terminated.

Signed in Washington, DC, this 14th day of November 2002.
Elliott S. Kushner,
Certifying Officer, Division of Trade Adjustment Assistance.

[FR Doc. 02-30073 Filed 11-26-02; 8:45 am]

BILLING CODE 4510-30-P